FEDERAL COMMUNICATIONS COMMISSION

Notice of Public Information Collection(s) Being Reviewed by the Federal Communications Commission for Extension Under Delegated Authority, Comments Requested

June 13, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments August 19, 2002. If you anticipate that you will be submitting comments, but find it difficult to do so within the period of time allowed by this notice, you should advise the contact listed below as soon as possible.

ADDRESSES: Direct all comments to Judy Boley Herman, Federal Communications Commission, 445 12th Street, SW, Room 1-C804, Washington, DC 20554 or via the internet to jboley@fcc.gov.

FOR FURTHER INFORMATION CONTACT: For additional information or copies of the information collections contact Judy Boley Herman at 202-418-0214 or via the internet at jboley@fcc.gov.

SUPPLEMENTARY INFORMATION: OMB Control No.: 3060-0010.

Title: Ownership Report for Commercial Broadcast Station.

Form No.: FCC Form 323.

Type of Review: Extension of a currently approved collection.

Respondents: Business or other for-profit.

Number of Respondents: 2,000.

Estimated Time Per Response: 1-7.5 hours.

Frequency of Response: On occasion, biennial and other reporting requirements.

Total Annual Burden: 2,750 hours.

Annual Reporting and Recordkeeping Cost Burden: $1,163,000.

Needs and Uses: Each permittee of a commercial AM, FM, TV and international broadcast station shall file an Ownership Report (FCC Form 323) within 30 days of the date of grant by the FCC of an application for an original construction permit or the consummation, pursuant to Commission consent, of a transfer of control or an assignment of license. A permittee is also required to file another report or to certify that it has reviewed its current Report on file and that it is accurate, in lieu of filing a new report, when the permittee applies for a station license. Each licensee of a commercial AM, FM, and TV broadcast station shall file an FCC Form 323 when they file their station's license renewal applications and every two years thereafter. Each licensee with a current and unamended FCC Form 323 on file at the Commission may certify that is has reviewed its current Report and that it is accurate, in lieu of filing a new Report. The data is used by FCC staff to determine whether the licensee/permittee is abiding by the multiple ownership requirements as set forth in Commission rules and is in compliance with the Communications Act. The race/ethnicity and gender question will allow the Commission to determine accurately the current state of minority and female ownership of broadcast facilities and to assess the need for measures designed to fulfill the statutory mandate to promote opportunities for small businesses and businesses owned by women and minorities in the broadcasting industry.

Federal Communications Commission.
Marlene H. Dortch,
Secretary.

[FR Doc. 02-15588 Filed 6-19-02; 8:45 am]

BILLING CODE 6712-01-P